DEPARTMENT OF VETERANS AFFAIRS

Advisory Committee on Women Veterans, Notice of Meeting

The Department of Veterans Affairs (VA) gives notice under the Federal Advisory Committee Act that the Advisory Committee on Women Veterans will conduct a virtual site visit on September 21-24, 2020, with the Veterans Integrated Service Network (VISN) 22: Desert Pacific Healthcare Network and the Southern Arizona VA Health Care System (SAVAHCS) in Tucson, AZ. The meetings will begin and end as follows:

Date | Time | Location
September 21, 2020 | 8:30 a.m.-3:45 p.m. Pacific Standard Time (PST) | See WebEx link and call-in information below.
September 22, 2020 | 8:30 a.m.-2 p.m. (PST) | See WebEx link and call-in information below.
September 23, 2020 | 8 a.m.-3:30 p.m. (PST) | See WebEx link and call-in information below.
September 24, 2020 | 8:30 a.m.-9:30 a.m. (PST) | See WebEx link and call-in information below.

The purpose of the Committee is to advise the Secretary of Veterans Affairs regarding the needs of women Veterans with respect to health care, rehabilitation, compensation, outreach and other programs and activities administered by VA designed to meet such needs. The Committee makes recommendations to the Secretary regarding such programs and activities.

On Monday, September 21, the agenda includes briefings on: VISN 22 facilities/programs/demographics; women Veterans services; SAVAHCS and its strategic partnerships; SAVAHCS's women Health program; the breast and cervical cancer screening program; SAVAHCS's Native American Veterans Program and Indian Health Services sharing Agreements; LGBT and transgender programs; SAVAHCS's health care training programs; primary care community based outpatient clinics; and the THRIVE program.

On Tuesday, September 22, the agenda includes briefings on: The Arizona Department of Veteran Services and how it collaborates with VA; mental health services; the Transition Care Management program; the Office of Tribal and Government Relations; health care for homeless Veterans; gynecology service and reproductive health programs. From 2:30-4:00 p.m., the Committee will observe a women Veterans town hall meeting for women Veterans in Arizona, hosted by the SAVAHCS.

On Wednesday, September 23, the agenda includes briefings on: SAVAHCS's Comprehensive Compensation and Pension program; readjustment counseling; prosthetic services; inpatient services; telehealth; research and medical affiliations; the Phoenix Regional Office; rural health; and the National Cemetery Phoenix National Cemetery of Arizona. On Thursday, September 24, the committee will conduct an out-briefing with leadership from SAVAHCS, Phoenix Regional Office and the National Cemetery Phoenix National Cemetery of Arizona. The meeting sessions and town hall meeting are open to the public.

The agenda will include overview briefings on programs and services for Arizona's women Veterans from VISN 22, SAVAHCS, the Phoenix Regional Office, National Cemetery of Arizona, the Office of Tribal Government Relations, and the Arizona Department of Veterans Services.

No time will be allocated at this meeting for receiving oral presentations from the public. Interested parties should provide written comments for review by the Committee to Ms. Shannon L. Middleton at 00W@mail.va.gov. Any member of the public who wishes to participate in the virtual site visit may use the following WebEx link (for September 21-23 only): https://veteransaffairs.WebEx.com/webappng/sites/veteransaffairs/meeting/download/236670d5436a47bc95047e1bb8f45ae5?siteurl=veteransaffairs&MTID=mafac92e107678c58f9c9abdb003b0d5a. Meeting number (access code): 199 257 9839; meeting password: CZyzrUe*633. To join by phone: 1-404-397-1596; access code: 1992579839##.

For September 24 (only), please use the following information below: https://veteransaffairs.WebEx.com/webappng/sites/veteransaffairs/meeting/download/244e7a4df0ce4c1ea406615b409796f7?siteurl=veteransaffairs&MTID=m8df485138357baa5bcede9e6e8fab356. Meeting number (access code): 199 156 9644; meeting password: wU3DhjRV$77. To join by phone: 1-404-397-1596; access code: 1991569644##.

Dated: August 11, 2020.
Jelessa M. Burney,
Federal Advisory Committee Management Officer.

[FR Doc. 2020-17814 Filed 8-14-20; 8:45 am]

BILLING CODE 8320-01-P